ENVIRONMENTAL PROTECTION AGENCY

[FRL-8229-9]

Science Advisory Board Staff Office; Notification of a Public Meeting of the Science Advisory Board Environmental Economics Advisory Committee

AGENCY: Environmental Protection Agency (EPA).

ACTION: Notice.

SUMMARY: The EPA's Science Advisory Board (SAB) Staff Office is announcing a public teleconference of the SAB Environmental Economics Advisory Committee (EEAC) to discuss the valuation of mortality risk reduction.

DATES: The teleconference will be held from 11 am—1 pm (EST) on October 30, 2006.

FOR FURTHER INFORMATION CONTACT: Any member of the public wishing further information regarding the public teleconference and call-in number may contact Dr. Holly Stallworth, Designated Federal Officer (DFO), U.S. EPA Science Advisory Board Staff Office by telephone/voice mail at (202) 343-9867, or via e-mail at stallworth.holly@epa.gov. The SAB mailing address is: U.S. EPA, Science Advisory Board (1400F), 1200 Pennsylvania Avenue, NW., Washington, DC 20460. General information about the SAB, as well as any updates concerning the meeting announced in this notice, may be found in the SAB Web site at: http://www.epa.gov/sab. The technical contact for EPA's work on valuing mortality risk reduction is Dr. Chris Dockins who may be reached at (202) 566-2286 or dockins.chris@epa.gov.

SUPPLEMENTARY INFORMATION: Pursuant to the Federal Advisory Committee Act, Public Law 92-463, notice is hereby given that the SAB Environmental Economics Advisory Committee will hold a public teleconference to discuss appropriate methods for valuing mortality risks in the context of cost-benefit analysis. The EEAC will be augmented by economists from the chartered Science Advisory Board as well as the Advisory Council on Clean Air Compliance Analysis. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: Background information on this advisory was published in 71 FR 48546 (August 21, 2006). This teleconference follows a face-to-face meeting of the EEAC on September 14-15, 2006. At this meeting, EEAC discussed two papers related to valuing mortality risk reduction. These papers are posted at http://yosemite.epa.gov/EE/epa/eerm.nsf/vwRepNumLookup/EE-0494?OpenDocument and http://yosemite.epa.gov/EE/epa/eerm.nsf/vwRepNumLookup/EE-0495?OpenDocument. On the October 30, 2006 teleconference, EEAC members will discuss draft comments to be written in response to the Agency's charge (posted at http://www.epa.gov/sab/panels/eeac_adv_val_mortal_rick_reduc.htm).

Availability of Meeting Materials: Materials in support of this meeting will be placed on the SAB Web site at: http://www.epa.gov/sab/ in advance of this meeting.

Procedures for Providing Public Input: Interested members of the public may submit relevant written or oral information for the SAB to consider during the advisory process. Oral Statements: In general, individuals or groups requesting an oral presentation at a public teleconference will be limited to five minutes per speaker, with no more than a total of one hour for all speakers. Interested parties should contact Dr. Stallworth, DFO, at the contact information noted above, by October 17, 2006, to be placed on the public speaker list for the October 30, 2006 teleconference. Written Statements: Written statements should be received in the SAB Staff Office by October 17, 2006, so that the information may be made available to the SAB for their consideration prior to this teleconference. Written statements should be supplied to the DFO in the following formats: one hard copy with original signature, and one electronic copy via e-mail to stallworth.holly@epa.gov (acceptable file format: Adobe Acrobat PDF, WordPerfect, MS Word, MS PowerPoint, or Rich Text files in IBM-PC/Windows 98/2000/XP format).

Meeting Access: For information on access or services for individuals with disabilities, please contact Dr. Stallworth at (202) 343-9867 or stallworth.holly@epa.gov. To request accommodation of a disability, please contact Dr. Stallworth, preferably at least 10 days prior to the meeting to give EPA as much time as possible to process your request.

Dated: October 2, 2006.
Anthony F. Maciorowski,
Associate Director of Science, EPA Science Advisory Board Staff Office.

[FR Doc. E6-16811 Filed 10-10-06; 8:45 am]

BILLING CODE 6560-50-P